POSTAL SERVICE

39 CFR Part 111

Manifest Mailing System Retired

AGENCY: Postal Service.

ACTION: Final rule.

SUMMARY: The Postal Service is amending Mailing Standards of the United States Postal Service, Domestic Mail Manual (DMM) subsection 703.2.0 to retire the manifest mailing system (MMS).

DATES: Effective Date: April 1, 2026.

FOR FURTHER INFORMATION CONTACT: James Duffy at (517) 703-4246, Geriann Wakely at (631-913-1116) or Garry Rodriguez at (202) 268-7281.

SUPPLEMENTARY INFORMATION: On September 12, 2025, the Postal Service published a notice of proposed rulemaking (90 FR 44153-44155) to retire the manifest mailing system (MMS). In response to the proposed rule, the Postal Service received one formal comment. The comment and response are as follows:

Comment: The comment was generally in agreement with retiring the manifest mailing system, however, the commentor questioned whether some smaller businesses may face challenges with the technology transition.

Response: The Postal Service has taken proactive steps to support these customers through the Intelligent Mail® for Small Business Tool (IMsb). The IMsb Tool is a free, web-based application designed specifically for small business mailers. It requires no software installation or downloads, making it accessible to businesses with limited technical resources. The tool generates unique Intelligent Mail barcodes (IMb) for use on address labels and mail pieces, and it features a simple, step-by-step interface that guides users through the process. Additional benefits include easy access via standard web browsers (e.g., Google Chrome), no need for specialized software or technical expertise, and is a cost-effective solution for businesses with limited budgets. For further guidance, users can refer to the IMsb User Guide, located on the IMsb Tool landing page, available on PostalPro at https://postalpro.usps.com. This tool represents a meaningful step toward ensuring that small businesses are not left behind in the Postal Service modernization efforts.

The Postal Service is retiring the manifest mailing system, by retiring manifest mail preparation along with the hard copy documentation. The Postal Service is migrating customers to Electronic Documentation (eDoc), Full Service, Seamless, and eInduction, for Letters, Cards and Flats. Options for Package customers are USPS Ship and Click-N-Ship. Mailers of Letters, Cards, and Flats can reference Mail.dat/Mail.XML Technical Specifications posted on PostalPro. Package shippers can reference Publication 199, Publication 205, and USPS Ship documentation on PostalPro.

As a result of retiring MMS, Publication 401, Guide to the Manifest Mailing System, will no longer be available on PostalPro after the effective date.

Resources

• HQMailEntry (HQMailEntry@usps.gov)

• USPS Ship (uspsshipsupport@usps.gov or 1-877-264-9693, Opt. 2)

• Click N SHIP (PostalPro or 1-800-344-7779)

• Information about electronic documentation can be found on Postal Pro at https://postalpro.usps.com/mailing/edoc

• Publication 199, Intelligent Mail Package Barcode (IMpb) Implementation Guide for Confirmation Services and Electronic Payment Systems, (PostalPro)

• Guide to USPS SHIP (PostalPro)

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

700 Special Standards

* * * * *

705 Advanced Preparation and Special Postage Payment Systems

* * * * *

[Revise the heading and text of 2.0 to read as follows:]

2.0 Mailing Services

The Postal Service offers customers the following mailing services:

a. Letters (cards) and Flats: 1. Full-Service Automation Option, see 705.23.

2. Seamless Acceptance Program, see 705.22.

b. Packages: The USPS Ship program is an electronic manifest mailing system for packages that allows mailers to document and pay postage and extra services fees by transmitting electronic files to the Postal Service without generating paper manifests, postage statements, or clearance documents. Business Acceptance Solutions, USPS Headquarters, must approve these systems. Unless authorized by Business Acceptance Solutions, mailers may not commingle USPS Ship mail with non-USPS Ship mail within the same mailing, or place USPS Ship mail and non-USPS Ship mail in or on the same mailing container. For additional information reference PostalPro available at https://postalpro.usps.com.

* * * * *

Kevin Rayburn,
Attorney, Ethics & Legal Compliance.

[FR Doc. 2025-19834 Filed 11-7-25; 8:45 am]

BILLING CODE 7710-12-P